DEPARTMENT OF COMMERCE

Submission for OMB Review; Comment Request

The Department of Commerce will submit to the Office of Management and Budget (OMB) for clearance the following proposal for collection of information under the provisions of the Paperwork Reduction Act (44 U.S.C. Chapter 35).

Agency: Bureau of Economic Analysis.

Title: Quarterly Survey of Insurance Transactions by U.S. Insurance Companies with Foreign Persons.

OMB Control Number: 0608-0066.

Form Number(s): BE-45.

Type of Request: Extension of a currently approved collection.

Burden: 15,440 hours.

Number of Respondents: 2,140.

Average Hours Per Response: 8 hours for mandatory response; and 1 hour for other response.

Needs and Uses: The data are needed to monitor U.S. international trade in insurance services, analyze its impact on the U.S. and foreign economies, compile and improve the U.S. economic accounts, support U.S. commercial policy on insurance services, conduct trade promotion, and improve the ability of U.S. businesses to identify and evaluate market opportunities.

Affected Public: U.S. insurance companies that transact with foreign persons in insurance services.

Frequency: Quarterly.

Respondents Obligation: Mandatory.

Legal Authority: Title 22 U.S.C., Sections 3101-3108, as amended.

OMB Desk Officer: Paul Bugg, (202) 395-3093.

Copies of the above information collection proposal can be obtained by writing Departmental Paperwork Clearance Officer, Jennifer Jessup, Department of Commerce, Room 6616, 14th and Constitution Avenue NW., Washington, DC 20230 or via the Internet at jjessup@doc.gov.

Send comments on the proposed information collection within 30 days of publication of this notice to Paul Bugg, OMB Desk Officer, via email at pbugg@omb.eop.gov or by fax at (202) 395-7245.

Dated: August 14, 2012.
Glenna Mickelson,
Management Analyst, Office of Chief Information Officer.

[FR Doc. 2012-20290 Filed 8-17-12; 8:45 am]

BILLING CODE 3510-06-P